ENVIRONMENTAL PROTECTION AGENCY

40 CFR Part 52

[EPA-R09-OAR-2024-0237; FRL-11999-02-R9]

Air Plan Revisions; California; Motor Vehicle Inspection and Maintenance Program

AGENCY: Environmental Protection Agency (EPA).

ACTION: Final rule.

SUMMARY: Under the Clean Air Act (CAA or “Act”), the Environmental Protection Agency (EPA) is taking final action to approve a revision to the California State Implementation Plan (SIP). This revision addresses the CAA requirements for motor vehicle inspection and maintenance (I/M) programs (also referred to as “Smog Check” programs) for the 2015 8-hour ozone National Ambient Air Quality Standards (“2015 ozone NAAQS”).

DATES: This rule is effective September 30, 2024.

ADDRESSES: The EPA has established a docket for this action under Docket ID No. EPA-R09-OAR-2024-0237. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Jeffrey Buss, EPA Region IX, 75 Hawthorne St., San Francisco, CA 94105; phone: (415) 947-4152; email: buss.jeffrey@epa.gov.

SUPPLEMENTARY INFORMATION: Throughout this document, “we,” “us” and “our” refer to the EPA.

Table of Contents

I. Proposed Action
II. Public Comments and EPA Responses
III. EPA Action
IV. Statutory and Executive Order Reviews

I. Proposed Action

On July 2, 2024 (89 FR 54753), under CAA section 110(k)(3), the EPA proposed to approve the California Air Resources Board's (CARB's) submission of the “California Smog Check Performance Standard Modeling and Program Certification for the 70 Parts Per Billion (ppb) 8-Hour Ozone Standard” (“Smog Check Certification SIP”) as a revision to the California SIP. CARB submitted the Smog Check Certification SIP to the EPA on April 26, 2023.¹ The Smog Check Certification SIP includes CARB's evaluation of the California Smog Check program for compliance with the applicable Smog Check program requirements for SIPs under CAA sections 182(a)(2)(B), 182(b)(4), and 182(c)(3) and the EPA's regulations in 40 CFR part 51, subpart S for certain nonattainment areas for the 2015 ozone NAAQS.

¹ Letter (with enclosures) dated April 26, 2023, from Steven S. Cliff, Ph.D., Executive Officer, CARB, to Martha Guzman, Regional Administrator, EPA Region IX (submitted electronically April 26, 2023). The letter and enclosures, which include the Smog Check Certification SIP, among other materials, are included in the docket for this rulemaking. The “70 Parts Per Billion (ppb) 8-Hour Ozone Standard” refers to the ozone NAAQS the EPA established in 2015.

More specifically, the Smog Check Certification SIP addresses the applicable Smog Check SIP requirements for all California air quality planning areas classified as “Moderate” and above for the 2015 ozone NAAQS that are subject to State jurisdiction. These areas (and their respective classifications for the 2015 ozone NAAQS) include Coachella Valley (Severe-15), Eastern Kern (Serious), Mariposa County (Moderate), Sacramento Metro (Serious), San Diego County (Severe-15), San Joaquin Valley (Extreme), Los Angeles-South Coast Air Basin (Extreme), Ventura (Serious), West Mojave Desert (Severe-15) and Western Nevada County (Serious).² While Coachella Valley and Sacramento Metro are currently classified as Severe-15 and Serious, respectively, CARB has submitted voluntary reclassification requests for the areas to Extreme and Severe-15, respectively, and the performance standard modeling presented and documented by CARB in the Smog Check Certification SIP assumes the EPA's grant of the reclassification requests for those areas.³

² 40 CFR 81.305.

³ See letters from Steven S. Cliff, Ph.D., Executive Officer, CARB, to Martha Guzman, Regional Administrator, EPA Region IX, dated February 22, 2023 (Reclassification request to Extreme for Coachella Valley); CARB Resolution 23-19, October 26, 2023 (Adopting Severe area ozone plan for the 2015 ozone NAAQS for the Sacramento Metro area).

Earlier this year, the EPA took final action to approve the San Diego County area portion of the Smog Check Certification SIP as part of the EPA's action on the San Diego ozone attainment plan.⁴ In this document, we are taking final action on the Smog Check Certification SIP as it relates to all the other nonattainment areas that are addressed in the SIP submission.

⁴ 89 FR 15035 (March 1, 2024).

In our proposed rule, we provided background information concerning the national ambient air quality standards (NAAQS), the criteria air pollutants and precursors, and the requirements for States to adopt and submit SIPs. We also explained that, for certain ozone nonattainment areas, States must submit SIP revisions that address CAA and EPA requirements for Smog Check programs. More specifically, section 182(b)(4) of the CAA requires States with ozone nonattainment areas classified under subpart 2 as Moderate to submit SIP revisions that provide for the implementation of a “Basic” I/M program in those areas. Section 182(c)(3) of the CAA requires States with ozone nonattainment areas classified under subpart 2 as Serious or above to submit SIP revisions that provide for the implementation of an “Enhanced” I/M program in certain urbanized portions of those areas.⁵

⁵ The CAA I/M SIP requirements apply to Moderate and above nonattainment areas for the 2015 ozone NAAQS pursuant to 40 CFR 51.1302.

As a general matter, Basic and Enhanced I/M programs both achieve their objective by identifying vehicles that have high emissions due to one or more malfunctions and requiring them to be repaired. An Enhanced I/M program covers more of the vehicles in operation, employs inspection methods that are better at finding high-emitting vehicles, and has additional features to better assure that all vehicles are tested properly and effectively repaired. The EPA has established specific requirements for Basic and Enhanced I/M programs in 40 CFR part 51, subpart S (“The EPA's I/M regulation”). The EPA's I/M regulation establishes minimum performance standards for Basic and Enhanced I/M programs as well as requirements for certain elements of the programs, including (among other elements) test frequency, vehicle coverage, test procedures and standards, stations and inspectors, and data collection, analysis, and reporting.⁶

⁶ 40 CFR part 51, subpart S, sections 51.350-51.373.

An I/M performance standard is a collection of program design elements that defines a benchmark program to which a State's Smog Check program is compared in terms of its potential to reduce emissions of the ozone precursors, VOC and NOX. The performance standard is expressed as emission levels in area-wide average grams per mile (gpm), achieved from on-road motor vehicles based on a specified model I/M program design. The emission levels achieved by the State's program design must be calculated using the most current version of the EPA mobile source emission factor model and must meet or exceed the emission reductions achieved by the model performance standard program both in operation and for SIP approval.

The EPA most recently approved a comprehensive update to California's Smog Check program into its SIP in 2010, and in that action, the EPA approved the program as meeting the applicable I/M requirements for the various nonattainment areas in the State for the 1997 ozone NAAQS.⁷ The California Bureau of Automotive Repair (BAR) implements the SIP-approved Smog Check program in California, including oversight of the automotive repair industry and administration of the State's vehicle emissions reduction and safety programs. The California Department of Motor Vehicles (DMV) administers motor vehicle registration and licensing and supports BAR in administering the Smog Check program.⁸

⁷ 75 FR 38023 (July 1, 2010).

⁸ “Fiscal Year 2021-22 Annual Report,” Department of Consumer Affairs, at pages 40-44.

Currently, BAR implements an Enhanced I/M program in the urbanized areas within the Coachella Valley, Sacramento Metro, San Diego County, San Joaquin Valley, South Coast, Ventura County and West Mojave Desert ozone nonattainment areas and a Basic I/M program outside the urbanized areas within these nonattainment areas. BAR implements a Basic I/M program in Western Nevada County and Eastern Kern. Owners of motor vehicles registered in Mariposa County are subject to certain Smog Check requirements only upon change of ownership.

Since the EPA's most recent approval of a comprehensive update to the California I/M program in 2010, the State has taken steps to improve the effectiveness of the Smog Check program by requiring BAR to direct older vehicles to high-performing auto technicians and test stations for inspection and certification.⁹ Further changes to State law have required BAR to implement an updated protocol for testing 2000 and newer model-year vehicles that collects more complete On-Board Diagnostic (OBD) information than had been collected under the existing protocol.¹⁰ The State publishes an annual report summarizing the performance of the California Smog Check program.¹¹

⁹ CARB, Progress Report on Implementation of PM2.5 State Implementation Plans (SIP) for the South Coast and San Joaquin Valley Air Basins and Proposed SIP Revisions (Release Date: March 29, 2011), Table 1.

¹⁰ CARB, Revised Proposed 2016 State Strategy for the State Implementation Plan (March 7, 2017), pp. 52-53.

¹¹ The most recent performance report is BAR's Smog Check Performance Report 2023, July 1, 2023.

CARB submitted the Smog Check Certification SIP to address the I/M SIP requirements for California ozone nonattainment areas classified as Moderate or above for the 2015 ozone NAAQS, including the Enhanced I/M performance standard evaluations required under 40 CFR 51.351(i). The provisions of 40 CFR 51.351(i) define the elements of the model Enhanced I/M program for areas required to implement an Enhanced I/M program as a result of designation and classification under the 8-hour ozone standard. As noted previously, a state's Enhanced I/M program can differ from the model program, but it must meet or exceed the VOC and NOX emission reductions achieved by the model program.

As part of CARB's certification of the existing California Smog Check program for compliance with the applicable I/M SIP requirements for the 2015 ozone NAAQS, the Smog Check Certification SIP includes Enhanced I/M performance standard evaluations for the urbanized areas within certain ozone nonattainment areas for 2015 ozone NAAQS: Coachella Valley, Eastern Kern, Sacramento Metro, San Diego County,¹² San Joaquin Valley, South Coast, Ventura County and West Mojave Desert. For the I/M performance standard evaluations, CARB relied upon the EPA's MOVES3 emissions model and the EPA's most recent guidance for I/M performance standard modeling.¹³ CARB did not provide I/M performance standard evaluations for the Western Nevada County and Mariposa County because the I/M SIP requirements apply only to areas that exceed certain population thresholds, and neither area exceeds those thresholds.¹⁴

¹² As noted previously, the EPA has already taken final action on the San Diego County area portion of the Smog Check Certification SIP, including the related Enhanced I/M performance evaluation. 89 FR 15035 (March 1, 2024).

¹³ EPA, Performance Standard Modeling for New and Existing Vehicle Inspection and Maintenance (I/M) Programs Using the MOVES Mobile Source Emissions Model, EPA-420-B-22-034, October 2022.

¹⁴ CARB, Smog Check Certification SIP, page 4.

As described in our proposed rule, for this action, the EPA evaluated the Smog Check Certification SIP against the applicable procedural and substantive requirements of the CAA and the EPA's regulations and proposed to conclude that the Smog Check Certification SIP meets all applicable requirements. More specifically, for the reasons given in the proposed rule, we proposed to find that:

• CARB has met the procedural requirements for adoption and submission of SIPs and SIP revisions under CAA sections 110(a)(1), 110(a)(2) and 110(l) and 40 CFR 51.102 with respect to the Smog Check Certification SIP;

• CARB has provided adequate necessary assurances for purposes of CAA section 110(a)(2)(E)(i) for the Smog Check Certification SIP and that the California Smog Check program continues to meet the SIP requirements for legal authority in 40 CFR 51.372(a)(5);

• the State has adequate personnel and funding to continue to implement the California Smog Check program;

• the California Smog Check program meets the applicable I/M program SIP requirements under CAA sections 182(b)(4) and 182(c)(3) and 40 CFR 51.1302 for the 2015 ozone NAAQS in the Coachella Valley, Eastern Kern, Mariposa County, Sacramento Metro, San Joaquin Valley, South Coast Air Basin, Ventura County, West Mojave Desert and Western Nevada County areas;

• the State continues to implement and enforce an Enhanced I/M program in the urbanized areas within the ozone nonattainment areas for which the Enhanced I/M program is required. These areas include the urbanized areas within nonattainment areas in Coachella Valley, Sacramento Metro, San Joaquin Valley, South Coast Air Basin, and Ventura County.¹⁵ In connection with this proposed finding, we reviewed CARB's Enhanced I/M performance standard modeling evaluation for the California ozone nonattainment areas that are subject to the Enhanced I/M requirement and found that, for both VOC and NOX in all analysis years, CARB's MOVES3 modeling results indicate that the California Enhanced I/M program meets or exceeds the Federal Enhanced I/M performance standard benchmark program to within 0.02 gpm in all the subject areas; and

¹⁵ As noted previously in this proposed rule, the Enhanced I/M SIP requirement also applies in the urbanized area with San Diego County. We have already approved the Smog Check Certification SIP as it relates to San Diego County. 89 FR 15035 (March 1, 2024).

• the approval of the Smog Check Certification SIP would not interfere with attainment and reasonable further progress or any other applicable requirement of the CAA, consistent with the requirements for SIP revisions under CAA section 110(l).

In our proposed rule, we also indicated that we agree with CARB that an Enhanced I/M program is not required in the Western Nevada County Serious ozone nonattainment area because it is not part of an area having a 1980 Bureau of Census-defined (Census-defined) urbanized area population of 200,000 or more.¹⁶ We also noted that the Western Nevada County area is not subject to the Basic I/M program requirement because it is not part of any 1990 Census-defined urbanized area with a population of 200,000 or more,¹⁷ although the State has decided to implement a Basic I/M program in Western Nevada County as part of the ozone control strategy for the area.

¹⁶ See CAA section 182(c)(3)(A) and 40 CFR 51.350(a)(2).

¹⁷ See 40 CFR 51.350(a)(4).

For the same reasons, we noted also that the West Mojave Desert Severe-15 and Eastern Kern Serious ozone nonattainment areas are not subject to the Basic or Enhanced I/M program requirement, although the State has decided to implement an Enhanced or Basic I/M program in portions of West Mojave Desert and a Basic I/M program in Eastern Kern as part of the ozone control strategies for the areas.

With respect to the Mariposa County Moderate ozone nonattainment area, we agree with CARB that a Basic I/M program is not required there because it is not part of a 1990 Census-defined urbanized area with a population of 200,000 or more.

In this final rule, we are affirming the above findings that we included in our proposed rule and are taking final action to approve the Smog Check Certification SIP as a revision to the California SIP. For more detailed information on the SIP submission and on our basis for proposed approval, please see our proposed rule.

II. Public Comments and EPA Responses

The EPA's proposed action provided a 30-day public comment period. During this period, we received no comments.

III. EPA Action

Pursuant to section 110(k)(3) of the Act, and for the reasons given in the proposed rule and summarized above, the EPA is taking final action to approve the Smog Check Certification SIP based on our finding that it meets the applicable procedural and substantive SIP requirements under the CAA and the EPA's I/M regulation for the applicable California nonattainment areas for the 2015 ozone NAAQS. These areas include Coachella Valley, Eastern Kern, Mariposa County, Sacramento Metro, San Joaquin Valley, South Coast Air Basin, Ventura, West Mojave Desert and Western Nevada County. This final rule adds the Smog Check Certification SIP to the federally-enforceable California SIP.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate EJ considerations as part of its SIP submittal; the CAA and applicable implementing regulations neither prohibit nor require such an evaluation. The EPA did not perform an EJ analysis and did not consider EJ in this proposed action. Due to the nature of this proposed action, this action is expected to have a neutral to positive impact on the air quality of the various ozone nonattainment areas covered by this proposed action. Consideration of EJ is not required as part of this action, and there is no information in the record inconsistent with the stated goal of Executive Order 12898, to achieve EJ for people of color, low-income populations, and Indigenous peoples.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by October 29, 2024. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen oxides, Ozone, Reporting and recordkeeping requirements, Volatile organic compounds.

Dated: August 22, 2024.
Martha Guzman Aceves,
Regional Administrator, Region IX.

Chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraph (c)(611)(ii)(A)(2) to read as follows:

§ 52.220 Identification of plan—in part.

* * * * *

(c) * * *

(611) * * *

(ii) * * *

(A) * * *

(2) “California Smog Check Performance Standard Modeling and Program Certification for the 70 Parts Per Billion (ppb) 8-Hour Ozone Standard,” adopted on March 23, 2023, excluding the San Diego County area portion.

* * * * *

[FR Doc. 2024-19374 Filed 8-29-24; 8:45 am]

BILLING CODE 6560-50-P